DEPARTMENT OF JUSTICE

Antitrust Division

Notice Pursuant to the National Cooperative Research and Production Act of 1993—Broadband Content Delivery Forum, Inc.

Notice is hereby given that, on July 25, 2000, pursuant to section 6(a) of the National Cooperative Research and Production Act of 1993, 15 U.S.C. 4301 et seq. (“the Act”), Broadband Content Delivery Forum, Inc. has filed written notifications simultaneously with the Attorney General and the Federal Trade Commission disclosing (1) the identities of the parties and (2) the nature and objectives of the venture. The notifications were filed for the purpose of invoking the Act's provisions limiting the recovery of antitrust plaintiffs to actual damages under specified circumstances. Pursuant to section 6(b) of the Act, the identifies of the parties are 24/7 Media, Incorporated, New York, NY; 2Wire, San Jose, CA; 3NO Systems Incorporated, Tinton Falls, NJ; Akamai Technologies Incorporated, Cambridge, MA; AppsPoint Corporation, Sunnyvale, CA; AT&T Broadband LLC, Englewood, CA; BANDWIZ LTD., Tel Aviv, ISRAEL; Be Here Corporation, Cupertino, CA; Bertelsmann Broadband Group, Hamburg, GERMANY; British Broadcasting Corporation (BBC), London, England, UNITED KINGDOM; Broadband Digital Group, Incorporated, Newport Beach, CA; BroadJump Incorporated, Austin, TX; BT, London, England, UNITED KINGDOM; Brust, San Francisco, CA; Cidera, Laurel, MD; COLO.COM, Brisbane, CA; Context Media, Incorporated, Providence, RI; Digital Fountain Incorporated, San Francisco, CA; DSLnetworks.com, San Francisco, CA; Ellacoya Networks Incorporated, Merrimack, NH; Entera, Fremont, CA; FirstMark Communications International, London, England, UNITED KINGDOM; Funk Software, Cambridge, MA; Global Telesystems Group (GTS), London, England, UNITED KINGDOM; Gotham Broadband, New York, NY; Harris Corporation, Melbourne, FL; Hewlett-Packard Company, Cupertino, CA; Huawei Technologies Company Ltd., Shenzhen City, PEOPLE's REPUBLIC OF CHINA; Hughes Space & Communications, Los Angeles, CA; ICTV, Incorporated, Los Gatos, CA: iknowledge Incorporated, Lexington, MA: Image Power, Vancouver, British Columbia, CANADA; iMagic TV Incorporated, Saint John, New Brunswick, CANADA; Incanta Incorporated, Atlanta, GA; InfoLibria Incorporated, Waltham, MA; InfoSpace, Redmond, WA; Inktomi Corporation, Foster City, CA; Innovatia, Saint John, New Brunswick, CANADA; Interactive Enterprise, Dublin, IRELAND; Info Networks, Cambridge, MA; Lucent Technologies, Alpharetta, GA; Massive Media Group, Santa Monica, CA; Mirror Image Internet, Woburn, MA; Motorola, Mansfield, MA; MTVi Group, New York, NY; Net Continuum, Santa Clara, CA; NetActive Incorporated, Ottawa, Ontario, CANADA; Network Equipment Technologies, Fremont, CA; New Paradigm Ventures, Palo Alto, CA; Nokia Networks, Petaluma, CA; Nomadix, Westlake Village, CA; Nortel Networks, Santa Clara, CA; Northpoint Communications, San Francisco, CA; Omneon Video Networks, Sunnyvale, CA; OneSecure, Santa Clara, CA; Path 1 Network Technologies, Inc., San Diego, CA; Peak XV Networks, Pleasanton, CA; PixStream Incorporated, Waterloo, Ontario, CANADA; Pulsent Corporation, Milpitas, CA; Redback Networks Incorporated, Sunnyvale, CA; Reliacast Incorporated, Herndon, VA; Riverstone Networks, Reading, Berkshire, UNITED KINGDOM; Seabridge, Hod Hasharon, ISRAEL; SkyStream Networks, Mountain View, CA; Spacedisk Inc., Londonderry, NH; Speedera Networks, Santa Clara, CA; Sprint Corporation, Westwood, KS; StarGuide Digital Networks Incorporated, Reno, NV; Sun Microsystems Incorporated, Palo Alto, CA; Svenska Bredbandsbolaget AB, Stockholm, SWEDEN; Syndeo Corporation, Cupertino, CA; TelePacific Communications, Los Angeles, CA; Telseon, Palo Alto, CA; Texas Instruments, Dallas, TX; TRW Ventures, Redondo Beach, CA; Visual Media LLC, Chicago, IL; Williams Communications Group, Tulsa, OK; World Com, Colorado Springs, CO; XOSoft, Givataim, ISRAEL; Zhone Technologies, Oakland, CA; Zyan Communications Incorporated, Los Angeles, CA; and Broadband Content Delivery Forum, Inc., Mountain View, CA. The nature and objectives of the venture are to be an open, nonprofit independent organization that promotes the growth and development of the broadband content delivery industry; to bring together parties who are contributing to broadband content delivery; to discuss, to promote, and to develop the applications and services market for broadband content delivery; to explore methods for creating commercial benefits for service/content providers and network operators while increasing value to the end-user; to address issues relating to the development of broadband content delivery, including, without limitation, the protection of intellectual property rights, security, privacy, personalization, and economics; to recommend and to develop open architectures to deliver rich, multimedia content over the emerging broadband networks, to improve end-user experience through improved performance and personalization; and to be a liaison with other industry forums and associations in related industries and related technologies.

Constance K. Robinson,
Director of Operations, Antitrust Division.

[FR Doc. 01-5708 Filed 3-7-01; 8:45 am]

BILLING CODE 4410-11-M